DEPARTMENT OF THE TREASURY

Submission for OMB Review; Comment Request

December 21, 2010.

The Department of the Treasury will submit the following public information collection requirement to OMB for review and clearance under the Paperwork Reduction Act of 1995, Public Law 104-13 on or after the date of publication of this notice. A copy of the submission may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before January 27, 2011 to be assured of consideration.

Internal Revenue Service (IRS)

OMB Number: 1545-1148.

Type of Review: Extension without change to a currently approved collection.

Title: EE-113-90 (TD 8324) Final and Temporary regulations Employee Business Expenses-Reporting and Withholding on Employee Business Expense Reimbursements and Allowances.

Abstract: These temporary and final regulations provide rules concerning the taxation of, and reporting and withholding on, employee business expense reimbursements and other expense allowance arrangements.

Respondents: Private sector: Businesses or other for-profits.

Estimated Total Burden Hours: 709,728 hours.

OMB Number: 1545-1746.

Type of Review: Extension without change to a currently approved collection.

Title: Form 13094—Recommendation for Juvenile Employment with the Internal Revenue Service.

Form: 13094.

Abstract: The data collected on the form provides the Internal Revenue Service with a consistent method for making suitability determination on juveniles for employment within the Service.

Respondents: Individuals or Households.

Estimated Total Burden Hours: 208 hours.

OMB Number: 1545-1352.

Type of Review: Extension without change to a currently approved collection.

Title: PS-276-76 (Final) Treatment of Gain From Disposition of Certain Natural Resource Recapture Property.

Abstract: This regulation prescribes rules for determining the tax treatment of gain from the disposition of natural resource recapture property in accordance with Internal Revenue Code section 1254. Gain is treated as ordinary income in an amount equal to the intangible drilling and development costs and depletion deductions taken with respect to the property. The information that taxpayers are required to retain will be used by the IRS to determine whether a taxpayer has properly characterized gain on the disposition of section 1254 property.

Respondents: Private sector: Businesses or other for-profits.

Estimated Total Burden Hours: 2,000 hours.

OMB Number: 1545-2038.

Type of Review: Extension without change to a currently approved collection.

Title: TD F-90-22.1, Report of Foreign Bank and Financial Accounts.

Form: TD F 90-22.1.

Abstract: This information is collected because of its high degree of usefulness in criminal, tax, or regulatory investigations or procedures or in the conduct of intelligence or counter intelligence activities, including analysis, to protect against international terrorism. Respondents include all United States persons who have a financial interest in or signature or other authority over foreign financial accounts with an aggregate value of over $10,000.

Respondents: Individuals or Households.

Estimated Total Burden Hours: 93,921 hours.

OMB Number: 1545-2181.

Type of Review: Extension without change to a currently approved collection.

Title: REG-120399-10—Affordable Care Act Notice of Patient Protections.

Abstract: This document contains interim final regulations implementing the rules for group health plans and health insurance coverage in the group and individual markets under provisions of the Affordable Care Act regarding preexisting condition exclusions, lifetime and annual dollar limits on benefits, rescissions, prohibition on discrimination in favor of highly compensated individuals, and patient protections.

Respondents: Private sector: Businesses or other for-profits, Not-for-profit institutions.

Estimated Total Burden Hours: 33,000 hours.

OMB Number: 1545-2177.

Type of Review: Extension without change to a currently approved collection.

Title: REG-112841-10—Indoor Tanning Services; Cosmetic Services; Excise Tax.

Abstract: This document contains final and temporary regulations that provide guidance on the indoor tanning services excise tax imposed by the Patient Protection and Affordable Care Act of 2010. These final and temporary regulations affect persons that use, provide, or pay for indoor tanning services. The text of the temporary regulations also serves as the text of the proposed regulations (REG-112841-10) set forth in the notice of proposed rulemaking on this subject.

Respondents: Private sector: Businesses or other for-profits.

Estimated Total Burden Hours: 10,000 hours.

OMB Number: 1545-2180.

Type of Review: Extension without change to a currently approved collection.

Title: REG-120399-10—Affordable Care Act Notice of Rescission.

Abstract: This document contains interim final regulations implementing the rules for group health plans and health insurance coverage in the group and individual markets under provisions of the Affordable Care Act regarding preexisting condition exclusions, lifetime and annual dollar limits on benefits, rescissions, prohibition on discrimination in favor of highly compensated individuals, and patient protections.

Respondents: Private sector: Businesses or other for-profits, Not-for-profit institutions.

Estimated Total Burden Hours: 25 hours.

OMB Number: 1545-1304.

Type of Review: Extension without change to a currently approved collection.

Title: INTL-941-86; INTL-656-87; and INTL-704-87 (NPRM) Treatment of Shareholders of Certain Passive Foreign Investment Companies.

Abstract: The reporting requirements affect U.S. persons that are direct and indirect shareholders of passive foreign investment companies (PFICs). The IRS uses Form 8621 to identify PFICs, U.S. persons that are shareholders, and transactions subject to PFIC taxation and verify income inclusions, excess distributions and deferred tax amounts.

Respondents: Private sector: Businesses or other for-profits.

Estimated Total Burden Hours: 2,500 hours.

OMB Number: 1545-1102.

Type of Review: Extension without change to a currently approved collection.

Title: PS-19-92 (TD 9420-Final) Carryover Allocations and Other Rules Relating to the Low-Income Housing Credit.

Abstract: This document contains final regulations that amend the utility allowances regulations concerning the low-income housing tax credit. The final regulations update the utility allowance regulations to provide new options for estimating tenant utility costs. The final regulations affect owners of low-income housing projects who claim the credit, the tenants in those low-income housing projects, and the State and local housing credit agencies that administer the credit.

Respondents: Private sector: Businesses or other for-profits.

Estimated Total Burden Hours: 4,008 hours.

OMB Number: 1545-1615.

Type of Review: Extension without change to a currently approved collection.

Title: REG-118926-97 (T.D. 8817 Final) Notice of Certain Transfers to Foreign Partnerships and Foreign Corporations.

Abstract: Section 6038B requires U.S. persons to provide certain information when they transfer certain property to a foreign partnership or foreign corporation. This regulation provides reporting rules to identify United States persons who contribute property to foreign partnerships and to ensure the correct reporting of items with respect to those partnerships.

Respondents: Private sector: Businesses or other for-profits.

Estimated Total Burden Hours: 1 hour.

OMB Number: 1545-1345.

Type of Review: Extension without change to a currently approved collection.

Title: CO-99-91 (Final) Limitations on Corporate Net Operating Loss.

Abstract: This regulation modifies the application of segregation rules under section 382 in the case of certain issuances of stock by a loss corporation. This regulation provides that the segregation rules do not apply to small issuances of stock, as defined, and apply only in part to certain other issuances of stock for cash.

Respondents: Private sector: Businesses or other for-profits.

Estimated Total Burden Hours: 1 hour.

OMB Number: 1545-2179.

Type of Review: Extension without change to a currently approved collection.

Title: REG-120399-10—Patient Protection and Affordable Care Act Enrollment Opportunity Notice Relating to Lifetime Limits.

Abstract: This document contains interim final regulations implementing the rules for group health plans and health insurance coverage in the group and individual markets under provisions of the Affordable Care Act regarding preexisting condition exclusions, lifetime and annual dollar limits on benefits, rescissions, prohibition on discrimination in favor of highly compensated individuals, and patient protections.

Respondents: Private sector: Businesses or other for-profits, Not-for-profit institutions.

Estimated Total Burden Hours: 1,300 hours.

OMB Number: 1545-1905.

Type of Review: Extension without change to a currently approved collection.

Title: REG-128767-04 (Final), (TD 9289) Treatment of Disregarded Entities Under Section 752.

Abstract: Generally, the final regulations recognize that only the assets of a disregarded entity that limits its member's liability are available to satisfy creditors' claims under local law. The proposed regulations provide rules under section 752 for taking into account the net value of a disregarded entity owned by a partner or related person for purposes of allocating, partnership liabilities.

Respondents: Private sector: Businesses or other for-profits.

Estimated Total Burden Hours: 3,000 hours.

OMB Number: 1545-2178.

Type of Review: Extension without change to a currently approved collection.

Title: REG-118412-10—Interim Final Rules for Group Health Plans and Health Insurance Coverage Relating to Status as a Grandfathered Health Plan under the Patient Protection and Affordable Care Act (TD XXXX).

Abstract: This document contains interim final regulations implementing the rules for group health plans and health insurance coverage in the group and individual markets under provisions of the Patient Protection and Affordable Care Act regarding status as a grandfathered health plan.

Respondents: Private sector: Businesses or other for-profits, Not-for-profit institutions.

Estimated Total Burden Hours: 323,000 hours.

Bureau Clearance Officer: Allan Hopkins, Internal Revenue Service, 1111 Constitution Avenue, NW., Washington, DC 20224; (202) 622-6665.

OMB Reviewer: Shagufta Ahmed, Office of Management and Budget, New Executive Office Building, Room 10235, Washington, DC 20503; (202) 395-7873.

Celina Elphage,
Treasury PRA Clearance Officer.

[FR Doc. 2010-32618 Filed 12-27-10; 8:45 am]

BILLING CODE 4830-01-P